DEPARTMENT OF AGRICULTURE

Forest Service

Grays Harbor Resource Advisory Committee

AGENCY: Forest Service, USDA.

ACTION: Notice of meeting.

SUMMARY: The Grays Harbor Resource Advisory Committee (RAC) will hold its next meeting on August 28, 2002. The meeting will be held at the Pacific Ranger District's Quinault Office, Quinault, Washington. The meeting will begin at 7 p.m. and end at approximately 9 p.m. Agenda topics are: (1) Approval of minutes of previous meeting; (2) Presentation of FY 2003 Title II project proposals; (3) Selection of recommended projects and priorities; (4) Public comments; and (5) Identify next meeting date and location.

All Grays Harbor Resource Advisory Committee Meetings are open to the public. Interested citizens are encouraged to attend.

FOR FURTHER INFORMATION CONTACT: Direct questions regarding this meeting to Ken Eldredge, RAC Liaison, USDA, Olympic National Forest Headquarters, 1835 Black Lake Blvd. Olympia, WA 98512-5623, (360) 956-2323 or Dale Hom, Forest Supervisor and Designated Federal Official, at (360) 956-2301.

Dated: August 1, 2002.
Dale Hom,
Forest Supervisor, Olympic National Forest.

[FR Doc. 02-20128 Filed 8-8-02; 8:45 am]

BILLING CODE 3410-11-M